DEPARTMENT OF COMMERCE

National Oceanic and Atmospheric Administration

[RTID 0648-XF321]

New England Fishery Management Council; Public Meeting

AGENCY: National Marine Fisheries Service (NMFS), National Oceanic and Atmospheric Administration (NOAA), Commerce.

ACTION: Notice of public meeting.

SUMMARY: The New England Fishery Management Council (Council) will hold a 3-day hybrid meeting with both in-person and webinar participation options to consider actions affecting New England fisheries in the exclusive economic zone (EEZ).

DATES: The meeting will be held Tuesday, Wednesday, and Thursday, December 2-4, 2025, beginning at 10:30 a.m. on Tuesday, December 2 and at 9 a.m. on Wednesday, December 3 and Thursday, December 4.

ADDRESSES: The meeting will be held at the Newport Harbor Hotel and Marina, 49 Americas Cup Avenue, Newport, RI 02840; telephone (401) 847-9000; online at https://www.newporthotel.com/. Webinar registration information will be posted on the Council's December 2025 meeting web page at https://www.nefmc.org/calendar/december-2025-council-meeting.

FOR FURTHER INFORMATION CONTACT: Cate O'Keefe, Executive Director, New England Fishery Management Council; telephone: (978) 465-0492, ext. 113.

SUPPLEMENTARY INFORMATION:

Agenda

Tuesday, December 2, 2025

The Council Meeting will begin with introductions and announcements by Council Chair Daniel Salerno followed by reports from the Council Chair and Executive Director, the Greater Atlantic Regional Fisheries Office (GARFO), NOAA General Counsel, the Northeast Fisheries Science Center (NEFSC), the Mid-Atlantic Fishery Management Council (MAFMC), the Atlantic States Marine Fisheries Commission (ASMFC), the U.S. Coast Guard, NOAA Enforcement, Northwest Atlantic Fisheries Organization and the International Commission for the Conservation of Atlantic Tunas report.

After returning from lunch the Council will then review NOAA guidance to councils on financial disclosure and voting recusals followed by an update on status of regional capacity for science and management support.

The Council will then receive a 2025 Monitoring Report from the Whiting Committee as well as a review of the 2024 whiting fishery.

They will then hear an update from MAFMC regarding Spiny Dogfish Committee. Discussion will be on Framework Including Accountability Measures Modifications and 2026-2027 Specifications: (1) review recommendations from the Mid-Atlantic Scientific and Statistical Committee (SSC), Monitoring Committee, AP, staff, and Joint Committee; (2) review the MAFMC's adopted alternatives; (3) select preferred alternatives and Council final action.

The council will adjourn for the day at 5 p.m. At 6 p.m. they will host a public outreach session in the hotel to encourage informal discussions between Council members, staff, industry representatives, and members of the public. All are welcome to attend.

Wednesday, December 3, 2025

Wednesday will open with Update on the status of the Council's revised Risk Policy and activities of the Risk Policy Working Group.

There will then be a presentation on SSCs overfishing limit (OFL) and acceptable biological catch (ABC) recommendations for Atlantic sea scallops.

The Council will then receive a report from the Scallop Committee regarding Framework 40: final action on 2026 fishery specifications, 2027 default specifications, and other measures; presentation of final report of the Scallop Strategic Plan and Council approval.

Returning from lunch break will be a review from the Transboundary Management Guidance Committee. Specifically review, discuss, and approve TMGC recommendations for 2026 total allowable catches (TACs) for three shared U.S./Canada groundfish resources on Georges Bank—Eastern Georges Bank cod, Eastern Georges Bank haddock, and Georges Bank yellowtail flounder.

The Council will receive a presentation from the SSC on OFL and ABC recommendations for Acadian redfish, white hake, winter flounder, yellowtail flounder, Georges Bank cod, and Georges Bank haddock.

Last agenda item for Wednesday is from the Groundfish Committee on Framework Adjustment 72: final action to set specifications for several groundfish stocks for fishing years 2026-2030, U.S./Canada TACs for 2026, and other management measures.

Thursday, December 4, 2025

Thursday opens with update on development of the Council's Holistic Strategic Plan initiative.

The Council will have open period for public comment on issues not listed on the agenda.

The council will then take final action on the 2026 Council Priorities for all fishery management plans and other Council responsibilities.

Then there will be Planning updates: 2025 Council Priorities status, IRA Initiatives, action timelines, and other activities.

The meeting will conclude with any other business and adjourn at noon.

Special Accommodations

This meeting is physically accessible to people with disabilities. Requests for sign language interpretation or other auxiliary aids should be directed to Cate O'Keefe, Executive Director, at (978) 465-0492, at least 5 days prior to the meeting date.

Authority: 16 U.S.C. 1801 et seq.

Dated: November 13, 2025.
Rey Israel Marquez,
Acting Deputy Director, Office of Sustainable Fisheries, National Marine Fisheries Service.

[FR Doc. 2025-20022 Filed 11-14-25; 8:45 am]

BILLING CODE 3510-22-P